DEPARTMENT OF HOMELAND SECURITY

Customs and Border Protection

19 CFR Part 162

[CBP Dec. 05-02]

RIN 1651-AA48

Publication of Administrative Forfeiture Notices

AGENCY: Bureau of Customs and Border Protection, Homeland Security.

ACTION: Final rule.

SUMMARY: This document adopts as a final rule, a proposed amendment to the Bureau of Customs and Border Protection (CBP) Regulations published in the Federal Register on January 14, 2004, to raise the threshold value of seized property for which CBP must publish a forfeiture notice in a newspaper from $2,500 to $5,000. By changing the requirements for publication of administrative forfeiture notices, the amendment significantly reduces the publication costs incurred by CBP, which have often exceeded the value of seized property.

EFFECTIVE DATE: March 24, 2005.

FOR FURTHER INFORMATION CONTACT: Ricardo Scheller, Seizures & Penalties Branch, (202) 344-1095.

SUPPLEMENTARY INFORMATION:

Background

Section 162.45 of the Customs and Border Protection (CBP) Regulations (19 CFR 162.45) sets forth the procedure that CBP must follow when it seizes and gives notice of intent to forfeit property under administrative forfeiture proceedings, as required by section 607 of the Tariff Act of 1930, as amended (19 U.S.C. 1607). The statutory language allows for administrative forfeiture when CBP seizes (1) a prohibited importation; (2) a transporting conveyance if used to import, export, transport or store a controlled substance or listed chemical; (3) any monetary instrument within the meaning of 31 U.S.C. 5312(a)(3); or (4) any conveyance, merchandise or baggage for which its value does not exceed $500,000.

Specifically, § 162.45(b), CBP Regulations, addresses publication of notices under administrative forfeiture proceedings. If the value of seized property exceeds $2,500, current paragraph (b)(1) requires publication of administrative forfeiture notices in a newspaper circulated at the Customs port and in the judicial district where the seizure occurred. All known parties-in-interest are notified of the newspaper and expected dates of publication of the notice.

When the value of the seized property does not exceed $2,500, current paragraph (b)(2) of § 162.45 allows CBP to publish a notice of seizure and intent to forfeit by posting it in a conspicuous place accessible to the public at the customhouse nearest the place of seizure.

Proposal

On January 14, 2004, CBP published a document in the Federal Register (69 FR 2093) proposing to amend the CBP Regulations by changing the requirements for publication of administrative forfeiture notices in § 162.45(b)(1) by raising the value threshold of property for which CBP must publish an administrative forfeiture notice in a newspaper from $2,500 to $5,000.

Consequently, the applicability of paragraph (b)(2) would be automatically expanded to seizures of property valued at $5,000 or under, allowing CBP to publish the notice by posting it in a conspicuous place accessible to the public at the customhouse nearest the place of seizure.

CBP had last changed the regulation in 1985, when it increased the dollar threshold from $250 to $2,500. Since then, inflation has often caused the costs of publication in large metropolitan areas to exceed $2,500. Thus, in many cases the publication costs can be prohibitive when compared to the value of the property advertised.

Adoption of Proposal as Final Rule

Comments on the proposed amendment to the CBP Regulations were solicited. No comments were received during the public comment period, which closed on March 15, 2004. Upon further consideration of the matter, CBP has determined to adopt the proposal as published on January 14, 2004.

Regulatory Flexibility Act and Executive Order 12866

The amendment is changing the dollar value threshold governing only the form of public notice, not its substance. Accordingly, CBP certifies that the amendment will not have a significant economic impact on a substantial number of small entities, pursuant to the provisions of the Regulatory Flexibility Act (5 U.S.C. 601 et seq.). Accordingly, it is not subject to the regulatory analysis or other requirements of 5 U.S.C. 603 and 604.

For the same reasons, this document does not meet the criteria for a “significant regulatory action” as specified in E.O. 12866.

Drafting Information

The principal author of this document is Mr. Fernando Peña, Office of Regulations and Rulings, Customs and Border Protection. However, personnel from other Bureau offices participated in its development.

Signing Authority

This regulation is being issued by CBP in accordance with 19 CFR 0.1(b)(1).

List of Subjects in 19 CFR Part 162

Administrative practice and procedure, Customs duties and inspection, Drug traffic control, Exports, Imports, Inspection, Law enforcement, Penalties, Prohibited merchandise, Restricted merchandise, Reporting and recordkeeping requirements, Search warrants, Seizures and forfeitures.

Amendment to the Regulations

For the reasons stated above, part 162 of the CBP Regulations (19 CFR part 162) is amended as follows.

PART 162—INSPECTION, SEARCH, AND SEIZURE

1. The general authority citation for part 162 and the specific authority citation for § 162.45 continues to read as follows:

Authority: 5 U.S.C. 301; 19 U.S.C. 66, 1592, 1593a, 1624.

* * * * *

Section § 162.45 also issued under 19 U.S.C. 1607, 1608;

* * * * *

2. The first sentence of paragraph (b)(1) of § 162.45 is amended by removing the monetary amount “$2,500” and adding “$5,000” in its place.

Approved: February 16, 2005.
Robert C. Bonner,
Commissioner, Customs and Border Protection.

[FR Doc. 05-3327 Filed 2-18-05; 8:45 am]

BILLING CODE 4820-02-P